DEPARTMENT OF STATE

[Public Notice: 10445]

Proposal To Extend Cultural Property Agreement Between the United States and Honduras

AGENCY: Department of State.

ACTION: Public notice.

SUMMARY: Proposal to extend the Memorandum of Understanding between the Government of United States of America and the Government of the Republic of Honduras Concerning the Imposition of Import Restrictions on Archaeological Material from the Pre-Columbian Cultures of Honduras and Ecclesiastical Ethnological Material from the Colonial Period of Honduras.

FOR FURTHER INFORMATION CONTACT: Allison Davis, Cultural Heritage Center, Bureau of Educational and Cultural Affairs; 202-632-6301; culprop@state.gov.

SUPPLEMENTARY INFORMATION: Pursuant to the authority vested in the Assistant Secretary of State for Educational and Cultural Affairs, and pursuant to 19 U.S.C. 2602(f)(1), an extension of the Memorandum of Understanding between the Government of United States of America and the Government of the Republic of Honduras Concerning the Imposition of Import Restrictions on Archaeological Material from the Pre-Columbian Cultures of Honduras and Ecclesiastical Ethnological Material from the Colonial Period of Honduras is hereby proposed.

A copy of the Memorandum of Understanding, the Designated List of categories of material restricted from import into the United States, and related information can be found at the Cultural Heritage Center website: http://culturalheritage.state.gov.

Marie Therese Porter Royce,
Assistant Secretary Bureau of Educational and Cultural Affairs, Department of State.

[FR Doc. 2018-12678 Filed 6-12-18; 8:45 am]

BILLING CODE 4710-05-P